DEPARTMENT OF THE INTERIOR

Bureau of Land Management

[BLM_CO_FRN_MO4500171447]

Notice of Availability of the Draft Resource Management Plan and Supplemental Environmental Impact Statement for the Colorado River Valley Field Office and Grand Junction Field Office Resource Management Plans, Colorado

AGENCY: Bureau of Land Management, Interior.

ACTION: Notice of availability.

SUMMARY: In accordance with the National Environmental Policy Act of 1969, as amended (NEPA), and the Federal Land Policy and Management Act of 1976, as amended (FLMPA), the Bureau of Land Management (BLM) has prepared a Draft Resource Management Plan (RMP) and Draft Supplemental Environmental Impact Statement (EIS) for the Colorado River Valley Field Office (CRVFO) and Grand Junction Field Office (GJFO), and by this notice is providing information announcing the opening of the comment period on the Draft RMP/Supplemental EIS and is announcing the comment period on the BLM's proposed areas of critical environmental concern (ACECs).

DATES: This notice announces the opening of a 90-day comment period for the Draft RMP/Supplemental EIS beginning on the date following the Environmental Protection Agency's (EPA) publication of its Notice of Availability (NOA) of the Draft RMP/Supplemental EIS in the Federal Register. The EPA usually publishes its NOAs on Fridays.

To afford the BLM the opportunity to consider comments in the Proposed RMP/Final Supplemental EIS, please ensure that the BLM receives your comments prior to the close of the 90-day public comment period or 15 days after the last public meeting, whichever is later.

In addition, this notice also announces the opening of a 60-day comment period for ACECs. The BLM must receive your ACEC-related comments by October 3, 2023.

ADDRESSES: The Draft RMP/Supplemental EIS is available for review on the BLM ePlanning project Website at: https://go.usa.gov/xtrgf.

Written comments related to the supplemental EIS for the CRVFO and GJFO RMPs/EISs may be submitted by any of the following methods:

• Website: https://go.usa.gov/xtrgf

• Mail: BLM Upper Colorado River District, Attn: Supplemental EIS, 2518 H Road, Grand Junction, CO 81506

Documents pertinent to this proposal may be examined online at https://go.usa.gov/xtrgf and at the Grand Junction and Colorado River Valley Field Offices.

FOR FURTHER INFORMATION CONTACT: Bruce Krickbaum, Project Manager, telephone 970-240-5399; address BLM Upper Colorado River District, 2518 H Road, Grand Junction, CO 81506; email ucrd-seis@blm.gov. Individuals in the United States who are deaf, deafblind, hard of hearing, or have a speech disability may dial 711 (TTY, TDD, or TeleBraille) to access telecommunications relay services for contacting Mr. Krickbaum. Individuals outside the United States should use the relay services offered within their country to make international calls to the point-of-contact in the United States.

SUPPLEMENTARY INFORMATION: This document provides notice that the BLM Colorado State Director has prepared a Draft RMP/Supplemental EIS for the two RMPs/EISs, provides information announcing the opening of the comment period on the Draft RMP/Supplemental EIS, and announces the comment period on the BLM's proposed ACECs. The planning area is located in Garfield, Mesa, Eagle, Pitkin, Routt, Rio Blanco, and Montrose counties, Colorado, and encompasses approximately 1.56 million acres of public land and 1.92 million acres of Federal mineral estate.

CRVFO and GJFO management is identified in their respective 2015 RMPs. Apart from fluid mineral leasing decisions, all existing management as described in the CRVFO and GJFO approved RMPs remains in effect.

Purpose and Need for the Planning Effort

The purpose of the supplemental EIS is to supplement the EISs completed in 2014 for the CRVFO RMP and 2015 for the GJFO RMP by considering one or more additional alternatives with respect to the lands that are allocated as open or closed to oil and gas leasing in the planning decision areas, and to provide additional analysis of greenhouse gas emissions associated with the fluid mineral management alternatives considered in the final EISs and the supplemental EIS.

The need for this supplemental EIS is to address the issues identified by the court in litigation involving the Colorado River Valley RMP (Wilderness Workshop v. BLM, 16-cv-01822), as described in settlement agreements in that case and a related case (Wilderness Workshop v. BLM, 18-cv-00987), and to revisit the Grand Junction RMP, as described in the BLM's motion for voluntary remand in litigation involving that RMP (Center for Biological Diversity v. BLM, 19-cv-02869). The need is also to consider new information, including relevant information provided through tribal consultation.

Alternatives Including the Preferred Alternative

The BLM has analyzed two additional alternatives in detail. The three action alternatives (B through D) and the no action alternative (A) from the 2014 CRVFO and the 2015 GJFO Final EISs remain within the range of alternatives considered. Alternative E would close the areas with no-known, low, and medium potential for fluid mineral leasing to future fluid mineral leasing. Alternative E would also close areas that would be allocated as closed to fluid mineral leasing in alternative C of the 2014 CRVFO and 2015 GJFO Final EISs. Alternative E would designate the potential ACECs that were analyzed as closed to leasing in alternative C of the 2014 CRVFO and 2015 GJFO Final EISs. Alternative F would close the same areas as alternative E to future fluid mineral leasing, as well as additional areas identified by the public during scoping. Alternative F would designate all potential ACECs analyzed in alternative C of the 2014 CRVFO and 2015 GJFO Final EISs and would expand one existing ACEC. Alternative F would designate one FLPMA Section 202 Wilderness Study Area. The BLM did not identify any additional alternatives for detailed analysis.

The State Director has identified alternative E as the preferred alternative. Alternative E was found to best meet the State Director's planning guidance and, therefore, selected as the preferred alternative because it best meets the purpose and need.

ACECs

Consistent with land use planning regulations at 43 CFR 1610.7-2(b), the BLM is announcing the opening of a 60-day comment period on the ACECs proposed for designation in the preferred alternative. Comments may be submitted using any of the methods listed in the ADDRESSES section earlier.

The proposed ACEC included in the preferred alternative for CRVFO is:

• Greater Sage-grouse Habitat, 24,600 acres, to protect priority habitat for the greater sage-grouse. Close to fluid mineral leasing, right-of-way avoidance, visual resource management (VRM) Class II, prohibit net increase in motorized/mechanized routes.

The proposed ACECs included in the preferred alternative for GFJO are:

• Atwell Gulch, 6,100 acres (an additional 3,200 acres above current designation), to protect rare plants, cultural resources, scenic values, and wildlife habitat. Close to fluid mineral leasing, close to mineral material disposal and non-energy solid leasable mineral exploration and development, right-of-way exclusion, travel closed to motorized and mechanized travel (except for Sunnyside Rd), VRM Class II.

• Badger Wash, 2,200 acres, to protect rare plants and use as a hydrologic study area. Close to fluid mineral leasing, close to mineral material disposal and non-energy solid leasable mineral exploration and development, 1,800 acres right-of-way exclusion, 400 acres right-of-way avoidance, VRM Class II.

• Glade Park-Pinyon Mesa, 27,200 acres, to protect occupied Gunnison Sage-grouse habitat. Close to fluid mineral leasing, close to mineral material disposal and non-energy solid leasable mineral exploration and development, right-of-way avoidance, travel limited to designated routes, VRM Class II.

• John Brown Canyon, 1,400 acres, to preserve old growth pinyon-juniper woodlands. Close to fluid mineral leasing, close to mineral material disposal and non-energy solid leasable mineral exploration and development, travel limited to designated routes, VRM Class II.

• Mt. Garfield, 5,700 acres (an additional 3,300 acres above current designation), to protect its scenic values. Close to fluid mineral leasing, close to mineral material disposal and non-energy solid leasable mineral exploration and development, travel limited to designated routes, right-of-way exclusion, VRM Class I.

• Plateau Creek, 200 acres, to protect special status fish species. Close to fluid mineral leasing, close to mineral material disposal and non-energy solid leasable mineral exploration and development, right-of-way avoidance, travel limited to designated routes, VRM Class II.

• Prairie Canyon, 6,900 acres, to protect rare plants and wildlife habitat. Close to fluid mineral leasing, close to mineral material disposal and non-energy solid leasable mineral exploration and development, 2,800 acres right-of-way exclusion, 2,600 acres right-of-way avoidance, travel limited to designated routes, VRM Class II.

• South Shale Ridge, 28,200 (an additional 400 acres above current designation), to protect rare plants, wildlife habitat, and scenic values. Close to fluid mineral leasing, close to mineral material disposal and non-energy solid leasable mineral exploration and development, right-of-way exclusion, travel limited to designated routes, VRM Class II.

The preferred alternative would not propose the following potential ACECs in CRVFO for designation: Abrams Creek, Dotsero Crater, Glenwood Springs Debris Flow Hazard Zones, Grand Hogback, Hardscrabble-East Eagle, Lyons Gulch, McCoy Fan Delta, Mount Logan Foothills, Sheep Creek Uplands, and The Crown Ridge.

The preferred alternative would not propose the following potential ACECs in GJFO for designation: Colorado River Riparian, Coon Creek, Gunnison River Riparian, Hawxhurst Creek, Indian Creek, Nine-mile Hill Boulders, Pyramid Rock Expansion, and Reeder Mesa.

Schedule for the Decision-Making Process

The BLM will provide additional opportunities for public participation consistent with the NEPA and land use planning processes, including a 30-day public protest period and a 60-day Governor's consistency review on the Proposed RMP. The Proposed RMP/Final Supplemental EIS is anticipated to be available for public protest in the spring of 2024 with a supplemental approved RMP and Record of Decision in the summer of 2024.

The BLM will hold two public meetings. The specific dates and locations of these meetings will be announced least 15 days in advance through local media, newspapers, and the BLM website at https://go.usa.gov/xtrgf.

The BLM will continue to consult with Indian Tribal Nations on a government-to-government basis in accordance with Executive Order 13175, BLM MS 1780, and other Departmental policies. Tribal concerns, including impacts on Indian trust assets and potential impacts to cultural resources, will be given due consideration.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10, 43 CFR 1610.2, 43 CFR 1610.7-2)

Douglas J. Vilsack,
BLM Colorado State Director.

[FR Doc. 2023-16598 Filed 8-3-23; 8:45 am]

BILLING CODE 4331-16-P